DEPARTMENT OF COMMERCE

International Trade Administration

Initiation of Antidumping and Countervailing Duty Administrative Reviews

AGENCY: Enforcement and Compliance, International Trade Administration, Department of Commerce.

SUMMARY: The Department of Commerce (“the Department”) has received requests to conduct administrative reviews of various antidumping and countervailing duty orders and findings with July anniversary dates. In accordance with the Department's regulations, we are initiating those administrative reviews.

DATES: Effective September 12, 2016.

FOR FURTHER INFORMATION CONTACT: Brenda E. Waters, Office of AD/CVD Operations, Customs Liaison Unit, Enforcement and Compliance, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with July anniversary dates.

All deadlines for the submission of various types of information, certifications, or comments or actions by the Department discussed below refer to the number of calendar days from the applicable starting time.

Notice of No Sales

If a producer or exporter named in this notice of initiation had no exports, sales, or entries during the period of review (“POR”), it must notify the Department within 30 days of publication of this notice in the Federal Register. All submissions must be filed electronically at http://access.trade.gov in accordance with 19 CFR 351.303.¹ Such submissions are subject to verification in accordance with section 782(i) of the Tariff Act of 1930, as amended (“the Act”). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews initiated pursuant to requests made for the orders identified below, the Department intends to select respondents based on U.S. Customs and Border Protection (“CBP”) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (“Q&V”) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than July 31, 2017.

| Period to be reviewed
Antidumping Duty Proceedings
India: Polyethylene Terephthalate (Pet) Film, A-533-824 | 7/1/15-6/30/16
Ester Industries Limited
Garware Polyester Ltd.
Jindal Poly Films Limited of India
Jindal Poly Films Ltd. (India)
MTZ Polyesters Ltd.
Polyplex Corporation Ltd.
SRF Limited
Uflex Ltd.
Vacmet
Vacmet India Limited
Italy: Certain Pasta, A-475-818 | 7/1/15-6/30/16
Delverde Industrie Alimentari S.p.A.
Ghigi Industria Agroalimentare in San Clemente S.r.L.
GR.A.M.M. S.r.l.
Industria Alimentare Colavita, S.p.A
La Fabbrica Della Pasta di Gragnano S.A.S di Antonio Moccia
Liguori Pastificio dal 1820 S.p.A.
Pastificio Andalini S.p.A.
Pastificio Felicetti S.r.L.
Pastificio Labor S.r.L.
Pastificio Zaffiri S.r.l.
Premiato Pastificio Afeltra S.r.l.
Rustichella d'Abruzzo SpA
Tamma Industrie Alimentari de Capitanata S.r.L.
Tesa SrL
Malaysia: Steel Nails, A-557-816 | 12/29/14-6/30/16
Apex Container Line (M) Sdn Bhd
Astrotech Steels Private Ltd.
C.H. Robinson Freight Services Ltd.
Caribbean International Co. Ltd.
Chia Pao Metal Co. Ltd.
Expeditors (Malaysia) Sdn Bhd
Flyjac Logistics Private Ltd.
Hanjin Logistics India Private Ltd.
Hecny Transporation (M) Sdn Bhd
Honour Lane Logistics Sdn Bhd
Inmax Industries Sdn Bhd
Inmax Sdn. Bhd.
Jinhai Hardware Co. Ltd.
Nora Freight Services Sdn Bhd
Orient Containers Sdn Bhd
Orient Star Transport Sdn Bhd
Region International Co. Ltd.
Region System Sdn Bhd
Sino Connections Logistics Co. Ltd.
Swift Freight Private Ltd.
Tag Fasteners Sdn Shd
Oman: Steel Nails, A-523-808 | 12/29/14-6/30/16
Astrotech Steels Private Ltd.
Consolidated Shipping Services LLC
Damco India Private Ltd.
Flyjac Logistics Private Ltd.
International Maritime & Aviation LLC
Liladhar Pasoo India Logistics Private Ltd.
Ivk Manuport Logistics LLC
Oman Fasteners LLC
Overseas Distribution Services Inc.
Overseas International Steel Industry, LLC
Raajratna Metal Industries Ltd.
Shanxi Tianli Industries Co. Ltd.
Swift Freight India Private Ltd.
United Building Material Factory
Uniworld Logistics Pvt Ltd.
Republic of Korea: Steel Nails, A-580-874 | 12/29/14-6/30/16
AOT Japan Ltd
ABF Freight International Private Ltd
ABN Fasteners Co. Ltd.
Ace Logistics Co., Ltd. (Tianjin Branch)
Air Sea Transport Inc.
Air Sea Worldwide Logistics Ltd.
Alpha Forwarding Co. Ltd.
Apex Maritime Co., Inc. (Dalian)
Apex Maritime Co. Ltd. (Korea)
Apex Maritime (Tianjin) Co., Ltd.
Astrotech Steels Private Limited
Baoding Jieboshun Trading Corp. Ltd.
Beijing Jin Heung Co. Ltd.
Beijing Kang Jie Kong Int'l Cargo Co. Ltd.
Beijing Qin Li Jeff Trading Co., Ltd.
Ben Line Agencies-Tianjin
Berry Clark & Co. Ltd.
Bipex Co., Ltd.
BK Fasteners Co.
Blu Logistics (China) Co., Ltd.
Bollore Logistics China Co., Ltd.
Bolung International Trading Co., Ltd.
Bon Voyage Logistics Inc.
Brilliant Group Logistics Corp.
BYK Lines, Incorporated
C.H. Robinson Freight Services Ltd.
Caesar International Logistics Co. Ltd.
Cangzhou Xinqiao Int'l Trade Co. Ltd.
Capital Freight Management Inc.
Casia Global Logistics Co Ltd
Certified Products International Inc.
Capital Freight Management Inc.
Casia Global Logistics Co Ltd
Certfied Products International Inc.
China Abrasives Industry
China Staple Enterprise (Tianjin) Co. Ltd
CJ Korea Express Co., Ltd.
CMS Logistics, Inc.
CN Worldwide International Freight
Concord Freight System Co., Ltd.
Consolidated Shipping Services L.L.C.
Cyber Express Corporation
D&F Material Products Ltd
Daejin Steel Co.
Dahnay Logistics Private Ltd.
Daijin Express Co., Ltd.
DCS Dah Star Logistics Co., Ltd.
Deugro Emirates Shipping Co.
Dezhou Hualude Hardware Products Co., Ltd.
Dingzhou Derunda Material and Trade Co., Ltd.
Duo-Fast Korea Co., Ltd.⁴
Easylink Industrial Co., Ltd.
Eco Steel Co., Ltd.
Ejem Brothers Limited
Euroline Global Co., Ltd.
Family Express Company Limited
FG International Logistic Ltd
Foshan Sanden Enterprise Co., Ltd.
G Link Express Logistics (Korea) Ltd
Global Container Line, Inc.
Goodgood Manufacturers
Grandlink Logistics Co., Ltd.
Grubville Enterprises Corporation
Han Duk Industrial Co., Ltd.
Hanbit Logistics Co., Ltd.
Hanjin Logistics India Private Ltd.
Hanmi Staple Co., Ltd.
Hariharan Logistics
Hebei Minmetals Co., Ltd.
Hecny Transporation Ltd.
Hecny Shipping Ltd.
Hellmann Worldwide Logistics Inc.
Hengtuo Metal Products Co Ltd
High Link Line Inc.
Hongyi HK Hardware Products Co.
Honour Lane Logistics Sdn Bhd
Huanghua Lianqing Hardware Products
Huanghua Ruisheng Hardware Products
Huanghua Yingjin Hardware Products Co., Ltd.
Huanghua Yiqihe Imp. & Exp. Co, Ltd.
Huasheng Yida Tianjin International Trading Co. Ltd.
Huazan Metal Wire Mesh Manufacture Co. Ltd.
I B International Co., Ltd.
Inmax Industries Sdn Bhd
Inno International
International Maritime and Aviation LLC
Ivk Manuport Logistics LLC
J Consol Line Co., Ltd.
Jas Forwarding (Korea) Co. Ltd.
Jail Tacker Co., Ltd.
Je-il Wire Production Co., Ltd.
Jiangsu Globe Logistics Co., Ltd.
Jiaozuo Deled Hardware Manufacturing Co., Ltd.
Jinhai Hardware Co., Ltd.
Jinheung Steel Corporation ⁵
Jinsco International Corp.⁶
Jinzhou Yihe Metal Products Co., Ltd.
Joo Sung Sea Air Co., Ltd.
K Logistics Corp. (Korea)
Kase Logistics International
Kasy Logistics (Tianjin) Co., Ltd.
King Freight International Corp.
King Shipping Company
Kongo Special Nail Mfg. Co., Ltd.
Koram Inc.
Koram Steel Co., Ltd.
Korea Wire Co., Ltd.
Kuehne Nagel Ltd. (Tianjin Branch)
Kyungjoo Sejung Corporation
Laapraa Shipping Private Ltd.
Liaocheng Minghui Hardware Products
Linyi Doublwe Moon Hardware Products Co., Ltd.
Linyi Flying Arrow Imp. & Exp. Ltd.
Liladhar Pasoo India Logistics Private Ltd.
Micasa Corporation Osaka Japan
Mingguang Ruifeng Hardware Products Co., Ltd.
Nailtech Co. Ltd.
Nanjing Caiqing Hardware Co., Ltd.
Neo Gls
Ningbo Port Southeast Logistics Group Co., Ltd.
Nippon Seisen Co., Ltd.
Ocean King Industries Limited
OEC Freight Woldwide Korea Co. Ltd.
OEC Logistics Co., Ltd.
Oman Fasteners LLC
On Time Worldwire Logistics Ltd.
Orient Express Container Co., Ltd.
Overseas Distribution Services Inc.
Overseas International Steel Industry
Pacific Global Logistics Co., Ltd.
Panalpina World Transport (PRC) Ltd.
Paslode Fasteners (Shanghai) Co. Ltd.
Peace Korea Co., Ltd.
Prime Global Products Inc.
Prime Shipping International Inc.
Promising Way (Hong Kong) Limited
Pudong Prime International Logistics, Inc.
Qingdao D&L Group Ltd.
Qingdao Gold-Dragon Co. Ltd.
Qingdao Golden Sunshine Metal Products Co., Ltd.
Qingdao Master Metal Products Co. Ltd.
Qingdao Meijialucky Industry and Commerce Co., Ltd.
Qingdao Mst Industry and Commerce Co., Ltd.
Qingdao Tiger Hardware Co., Ltd.
Qingdao Uni-Trend International Limited
Ramses Logistics Company Limited
Regency Global Logistics (Shanghai) Co., Ltd.
Ricoh Logistics System Co., Ltd.
Romp Coil Nail Industries Inc.
Romp (Tianjin) Hardware Co. Ltd.
Scanwell Container Line Ltd.
SDC International Australia PTY Ltd.
SDV PRC International Freight Forwarding Co. Ltd.
SDV Vietnam Co. Ltd.
Sea Master Logistics Ltd.
Sejung (China) Sea & Air Co., Ltd.
Shandong Liaocheng Minghua Metal PR
Shandong Oriental Cherry Hardware Group
Shanghai Curvet Hardware Products Co., Ltd.
Shanghai Jade Shuttle Hardware Tools Co., Ltd.
Shanghai Kaijun Logistics Co., Ltd.
Shanghai Pinnacle International Trading Co., Ltd.
Shanghai Pudong International Transporation
Shanxi Hairui Trade Co., Ltd.
Shanxi Pioneer Hardware Industry Co., Ltd.
Shanxi Tianli Industries Co., Ltd.
Shenzhen Syntrans International Logistics Co., Ltd.
Shine International Transporation Ltd.
Shipping Imperial Co., Ltd.
Sirius Global Logistics Co. Ltd.
Smart Logistics Co., Ltd.
S-Mart (Tianjin) Technology Development Co., Ltd.
Suntec Industries Co., Ltd.
Sunworld Industry Company Limited
Swift Freight (India) Pvt Ltd.
T.H.I. Group (Shanghai) Ltd.
TCW Line Co., Ltd.
The Stanley Works (Langfang) Fastening System Co., Ltd.
Tianjin Bluekin Industries Limited
Tianjin Coways Metal Products Co.
Tianjin Hongli Qiangsheng Imp. Exp.
Tianjin Huixinshangmao Co. Ltd.
Tianjin Jinchi Metal Products Co., Ltd.
Tianjin Jinghai County Hongli Industry
Tianjin Juxiang Metal Products Co. Ltd.
Tianjin Lianda Group Co., Ltd.
Tianjin Lituo Imp. Exp. Co. Ltd.
Tianjin M&C Electronices Co., Ltd.
Tianjin Universal Machinery Imp. & Exp. Corp.
Tianjin Zhonglian Metals Ware Co. Ltd.
Tianjin Zhonglian Times Technology
Toll Global Forwarding (Beijing) Ltd.
Top Ocean Korea Limited
Top Ocean Consolidated Service Ltd.
TP Steel Co. Ltd.
Trans Knights, Inc.
Trans Wagon Int'l Co., Ltd.
Translink Shipping, Inc.
Unicorn (Tianjin) Fasteners Co., Ltd.
United Nail Products Co., Ltd.
Universal Sea & Air Co., Ltd.
UPS SCS (China) Limited
V-Line Shipping Co., Ltd.
W&K Corporation Limited
Wah Shing Trading Flat RM G
Weifang United Laisee International Trade Co. Ltd.
Xi'an Metals and Minerals Imp. Exp. Co.
Xinjiayuan Trading Co., Limited
Xuzhou CIP International Group Co. Ltd.
Yicheng Logistics
Youngwoo Fasteners Co., Ltd.
You-One Fastening Systems
Zen Continental (Tianjin) Enterprises
Zhejiang Best Nail Industry Co., Ltd.
Russia: Solid Urea, A-821-801 | 7/1/15-6/30/16
Joint Stock Company PhosAgro-Cherepovets
MCC EuroChem
Socialist Republic of Vietnam: Steel Nails, A-552-818 | 12/29/14-6/30/16
Astrotech Steels Private Limited
Blue Moon Logistics Private Ltd.
Bollore Logistics Vietnam Co. Ltd.
Dahnay Logistics Private Ltd
Dicha Sombrilla Co., Ltd.
FGS Logistics Co. Ltd.
Honour Lane Shipping Ltd
Rich State Inc.
SDV Vietnam Co. Ltd.
Truong Vinh Ltd.
United Nail Products Co. Ltd.
Taiwan: Polyethylene Terephthalate (Pet) Film, A-583-837 | 7/1/15-6/30/16
Nan Ya Plastics Corporation
Shinkong Materials Technology Corporation
Taiwan: Steel Nails, A-583-854 | 5/20/15-6/30/16
ABF Freight International Private Ltd
Air Sea Transport, Inc.
Apex Maritime (Fuzhou) Co., Ltd.
Apex Maritime (Shenzhen) Co., Ltd.
Aplus Pneumatic Corp.
Astrotech Steels Private Ltd.
Basso Industry Corporation
Blue Moon Logistics Private Ltd.
Bonuts Hardware Logistic Co., Ltd.
Bollore Logistics (Taiwan) Ltd.
Bollore Logistics (Vietnam) Co. Ltd.
C.H. Robinson Freight Services
Certified Products Taiwan Inc.
Challenge Industrial Co., Ltd.
Chia Pao Metal Co. Ltd.
China Staple Enterprise Corporation
Chite Enterprise Co., Ltd.
Crown Run Industrial Corp.
Dahnay Logistics Private Ltd.
DIFS Logistics Co. Ltd.
Eagre International Trade Co., Ltd.
Easylink Industrial Co., Ltd.
Encore Green Co., Ltd.
Everise Global Logistics Co., Ltd.
Faithful Engineering Products Co. Ltd.
Fastenal Asia Pacific Ltd.
Freight Links International Ltd.
General Merchandise Consolidators
Ginfa World Co. Ltd.
Gloex Company
Hariharan Logistics
Hecny Group
Hi-Sharp Industrial Corp. Ltd.
Home Value Co., Ltd.
Honour Lane Logistics Co., Ltd.
Hor Liang Industrial Corp.
HWA Hsing Screw Industry Co. Ltd.
Inmax Industries Sdn Bhd
Integral Building Products Inc.
Interactive Corporation
Jade Shuttle Enterprise Co., Ltd.
Jau Yeou Industry Co. Ltd.
Jinhai Hardware Co., Ltd.
K Win Fasteners Inc.
King Freight International Corporation
Kuan Hsin Screw Industry Co., Ltd.
Liang Chyuan Industrial Co., Ltd.
Linkwell Industry Co. Ltd.
ML Global Ltd.
Maytrans International Corp.
Newrex Screw Corporation
Nora Freight Services Sdn Bhd
Orient Express Container Co., Ltd.
Orient Star Transport International Ltd.
Pacific Concord International Ltd.
Patek Tool Co., Ltd.
Pneumax Corp.
President Industrial Inc.
Pro-Team Coil Nail Enterprise Inc.
PT Enterprise Inc.
Qi Ding Enterprise Co. Ltd.
Quick Advance Inc.
Ray Fu Enterprise Co., Ltd.
Region System Sdn Bhd
Romp Coil Nails Industries Inc.
Schenker (H.K.) Ltd. Taiwan Branch
Shang Jeng Nail Co., Ltd.
Suntec Industries Co., Ltd.
T.H.I. Logistics Co. Ltd.
Tag Fasteners Sdn Bhd
Taiwan Wakisangyo Co. Ltd.
Tianjin Jinchi Metal Products Co. Ltd.
TK Logistics International Co. Ltd.
Topocean Consolidation Service Ltd
Transworld Transportation Co. Ltd.
Trim International Inc.
Tsi-Translink (Taiwan) Co. Ltd.
U-Can-Do Hardware Corp.
Unicatch Industrial Co. Ltd.
United Nail Products Co. Ltd.
UPS Supply Chain Solutions
WTA International Co. Ltd.
Yeun Chang Hardware Tool Co. Ltd.
Yusen Logistics (Taiwan) Ltd
Yu Tai World Co., Ltd.
Zon Mon Co. Ltd.
The People's Republic of China: Certain Steel Threaded Rod, ⁷ A-570-932 | 4/1/15-3/31/16
Hong Kong Yichen Co. Ltd.
Ningbo Qianjiu Instrument Case Factory
Ningbo Zhendai Dingli Fasterner Screw Co., Ltd.
The People's Republic of China: Circular Welded Carbon Quality Steel Pipe, A-570-910 | 7/1/15-6/30/16
Baoshan Iron & Steel Co., Ltd.
Beijing Jia Mei Ao Trade Co., Ltd.
Beijing Jinghua Global Trading Co.
Benxi Northern Steel Pipes, Co. Ltd.
CNOOC Kingland Pipeline Co., Ltd.
ETCO (China) International Trading Co., Ltd.
Guangzhou Juyi Steel Pipe Co., Ltd.
Huludao City Steel Pipe Industrial
Jiangsu Changbao Steel Tube Co., Ltd.
Jiangsu Yulong Steel Pipe Co., Ltd.
Liaoning Northern Steel Pipe Co., Ltd.
Pangang Chengdu Group Iron & Steel Co., Ltd.
Shanghai Zhongyou TIPO Steel Pipe Co., Ltd.
Tianjin Baolai International Trade Co., Ltd.
Tianjin Haoyou Industry Trade Co.
Tianjin Longshenghua Import & Export
Tianjin Shuangjie Steel Pipe Co., Ltd.
Weifang East Steel Pipe Co., Ltd.
WISCO & CRM Wuhan Materials & Trade
Zhejiang Kingland Pipeline Industry Co., Ltd.
The People's Republic of China: Xanthan Gum, A-570-985 | 7/1/15-6/30/16
A.H.A. International Co., Ltd.
CP Kelco (Shandong) Biological Company Limited
Deosen Biochemical (Ordos) Ltd.
Deosen Biochemical Ltd.
Hebei Xinhe Biochemical Co. Ltd.
Inner Mongolia Jianlong Biochemical Co., Ltd.
Jianlong Biotechnology Co., Ltd.
Langfang Meihua Bio-Technology Co., Ltd.
Meihua Group International Trading (Hong Kong) Limited
Neimenggu Fufeng Biotechnologies Co., Ltd. (aka Inner Mongolia Fufeng Biotechnologies Co., Ltd.)
Shandong Fufeng Fermentation Co., Ltd.
Shanghai Smart Chemicals Co., Ltd.
Xinjiang Fufeng Biotechnologies Co., Ltd.
Xinjiang Meihua Amino Acid Co., Ltd.
Turkey: Certain Pasta, A-489-805 | 7/1/15-6/30/16
Mutlu Makarnacilik Sanayi ve Ticaret A.S.
Countervailing Duty Proceedings
India: Polyethylene Terephthalate (Pet) Film, C-533-825 | 1/1/15-12/31/15
Ester Industries Ltd.
Garware Polyester Ltd.
Jindal Poly Films Limited of India
Jindal Poly Films Ltd. (India)
MTZ Polyesters Ltd.
Polyplex Corporation Ltd.
SRF Limited
Uflex Ltd.
Vacmet
Vacmet India Limited
Italy: Certain Pasta, C-475-819 | 1/1/15-12/31/15
GR.A.M.M. S.R.L.
La Fabbrica della Pasta di Gragnano S.A.S. di Antonio Moccia
Liguori Pastificio dal 1820 S.p.A.
Pastificio Andalini, S.p.A.
Pastificio Labor S.R.L.
Pastifico Zaffiri S.r.l
Premiato Pastificio Afeltra S.r.l.
Tesa SrL
Socialist Republic of Vietnam: Steel Nails, C-552-819 | 11/3/14-12/31/15
Astrotech Steels Private Limited
Blue Moon Logistics Private Ltd.
Bollore Logistics Vietnam Co. Ltd.
Dahnay Logistics Private Ltd
Dicha Sombrilla Co., Ltd.
FGS Logistics Co. Ltd.
Honour Lane Shipping Ltd
Rich State Inc.
SDV Vietnam Co. Ltd.
Truong Vinh Ltd.
United Nail Products Co. Ltd.
The People's Republic of China: Circular Welded Carbon Quality Steel Pipe, C-570-911 | 1/1/15-12/31/15
Baoshan Iron & Steel Co., Ltd.
Beijing Jia Mei Ao Trade Co., Ltd.
Beijing Jinghua Global Trading Co.
Benxi Northern Steel Pipes, Co. Ltd.
CNOOC Kingland Pipeline Co., Ltd.
ETCO (China) International Trading Co., Ltd.
Guangzhou Juyi Steel Pipe Co., Ltd.
Huludao City Steel Pipe Industrial
Jiangsu Changbao Steel Tube Co., Ltd.
Jiangsu Yulong Steel Pipe Co., Ltd.
Liaoning Northern Steel Pipe Co., Ltd.
Pangang Chengdu Group Iron & Steel Co., Ltd.
Shanghai Zhongyou TIPO Steel Pipe Co., Ltd.
Tianjin Baolai International Trade Co., Ltd.
Tianjin Haoyou Industry Trade Co.
Tianjin Longshenghua Import & Export
Tianjin Shuangjie Steel Pipe Co., Ltd.
Weifang East Steel Pipe Co., Ltd.
WISCO & CRM Wuhan Materials & Trade
Zhejiang Kingland Pipeline Industry Co., Ltd.
Suspension Agreements
None

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

⁴ Entries of merchandise produced and exported by Duo-Fast Korea Co., Ltd. (“DFK”) are not subject to antidumping duties because the Department's final determination with respect to this producer/exporter combination was negative. See Certain Steel Nails from the Republic of Korea: Final Determination of Sales at Less than Fair Value, 80 FR 28955 at 28957 (Steel Nails Korea Final Determination) (May 20, 2015). However, any entries of merchandise produced by any other entity and exported by DFK or produced by DFK and exported by another entity are subject to the order.

⁵ Entries of merchandise produced and exported by Jinheung Steel Corporation (“Jinheung”) are not subject to antidumping duties because the Department's final determination with respect to this producer/exporter combination was negative. See Certain Steel Nails from the Republic of Korea: Final Determination of Sales at Less than Fair Value, 80 FR 28955 at 28957 (Steel Nails Korea Final Determination) (May 20, 2015). However, any entries of merchandise produced by any other entity and exported by Jinheung or produced by Jinheung and exported by another entity are subject to the order.

⁶ Entries of merchandise produced and exported by Jinsco International Corp. (“Jinsco”) are not subject to antidumping duties because the Department's final determination with respect to this producer/exporter combination was negative. See Certain Steel Nails from the Republic of Korea: Final Determination of Sales at Less than Fair Value, 80 FR 28955 at 28957 (Steel Nails Korea Final Determination) (May 20, 2015). However, any entries of merchandise produced by any other entity and exported by Jinsco or produced by Jinsco and exported by another entity are subject to the order.

⁷ In the initiation notice that published on June 6, 2016 (81 FR 36268), these three companies were inadvertently not included.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: The definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in this segment.

Any party submitting factual information in an antidumping duty or countervailing duty proceeding must certify to the accuracy and completeness of that information.⁸ Parties are hereby reminded that revised certification requirements are in effect for company/government officials as well as their representatives. All segments of any antidumping duty or countervailing duty proceedings initiated on or after August 16, 2013, should use the formats for the revised certifications provided at the end of the Final Rule.⁹ The Department intends to reject factual submissions in any proceeding segments if the submitting party does not comply with applicable revised certification requirements.

⁸ See section 782(b) of the Act.

⁹ See Certification of Factual Information To Import Administration During Antidumping and Countervailing Duty Proceedings, 78 FR 42678 (July 17, 2013) (“Final Rule”); see also the frequently asked questions regarding the Final Rule, available at http://enforcement.trade.gov/tlei/notices/factual_info_final_rule_FAQ_07172013.pdf.

Revised Extension of Time Limits Regulation

On September 20, 2013, the Department modified its regulation concerning the extension of time limits for submissions in antidumping and countervailing duty proceedings: Final Rule, 78 FR 57790 (September 20, 2013). The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: September 6, 2016.
Christian Marsh,
Deputy Assistant Secretary for Antidumping and Countervailing Duty Operations.

[FR Doc. 2016-21866 Filed 9-9-16; 8:45 am]

BILLING CODE 3510-DS-P